DEPARTMENT OF JUSTICE

Notice of Lodging of Consent Decree Under the Comprehensive Environmental Response, Compensation, and Liability Act

Notice is hereby given that on September 19, 2005, a proposed Consent Decree (“Consent Decree”) in United States v. Eliskim, Inc. et al., Civil Action No. 1:05CV2196 was lodged with the United States District Court for the Northern District of Ohio, Eastern Division.

In this action, the United States, on behalf of the United States Environmental Protection Agency (“EPA”), sought to recover response costs from Eliskim, Inc. (“Eliskim”) and the City of Geneva, Ohio (“City”) pursuant to Section 107 of the Comprehensive Environmental Response, Compensation, and Liability Act (“CERCLA”), 42 U.S.C. 107. The response costs were incurred in response to releases and threatened releases of hazardous substances from the True Temper Sports Superfund Site located in the City of Geneva, Ohio (the “Site”). The Consent Decree would require Eliskim and the City to pay respectively $56,500 and $12,500 toward the response costs incurred by EPA, which are presently estimated to be $118,000. The Consent Decree would resolve Eliskim's liability for: (1) Past response costs at the Site; and (2) costs, penalties, and fees pursuant to an Administrative Order by Consent at the Site. To the extent provided by the Consent Decree, certain specified benefits of the settlement would also extend to Eliskim's parent corporation, American Household, Inc. Finally, the Consent Decree would grant the City a de minimis covenant not to sue pursuant to Section 122(g) of CERCLA, 42 U.S.C. 9622(g).

The Department of Justice will receive for a period of thirty (30) days from the date of this publication comments relating to the Consent Decree. Comments should be addressed to the Assistant Attorney General, Environment and Natural Resources Division, P.O. Box 7611, U.S. Department of Justice, Washington, DC 20044-7611, and should refer to United States v. Eliskim, Inc., et al., No. 1:05CV2196 (N.D. Ohio), D.J. Ref. 90-11-2-1310/1.

The Consent Decree may be examined at the Office of the United States Attorney, 801 West Superior Avenue, Suite 400, Cleveland, Ohio 44113-1852, and at U.S. EPA Region 5, 77 West Jackson Boulevard, 14th Floor, Chicago, Illinois. During the public comment period, the Consent Decree may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $17.25 (25 cents per page reproduction cost) payable to the U.S. Treasury.

William D. Brighton,
Assistant Chief, Environmental Enforcement Section, Environment and Natural Resources Division.

[FR Doc. 05-20041 Filed 10-5-05; 8:45 am]

BILLING CODE 4410-15-M